DEPARTMENT OF LABOR

Mine Safety and Health Administration

[OMB Control No. 1219-0097]

Proposed Extension of Information Collection; Rock Burst Control Plan, (Pertains to Underground Metal/Nonmetal Mines)

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Mine Safety and Health Administration (MSHA) is soliciting comments on the information collection for the Rock Burst Control Plan, (Pertains to Underground Metal/Nonmetal Mines).

DATES: All comments must be received on or before September 22, 2023.

ADDRESSES: Comments concerning the information collection requirements of this notice may be sent by any of the methods listed below. Please note that late, untimely filed comments will not be considered.

• Federal E-Rulemaking Portal: http://www.regulations.gov. Follow the on-line instructions for submitting comments for docket number MSHA-2023-0025.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act) (Pub. L. 91-173, as amended by Pub. L. 95-164), 30 U.S.C. 813(h), authorizes the Mine Safety and Health Administration (MSHA) to collect information necessary to carry out its duty in protecting the safety and health of miners. Further, section 101(a) of the Mine Act, 30 U.S.C. 811, authorizes the Secretary of Labor to develop, promulgate, and revise as may be appropriate, improved mandatory health or safety standards for the protection of life and prevention of injuries in coal and metal and nonmetal mines.

30 CFR 57.3461 requires operators of underground metal and nonmetal mines which have experienced a rock burst to report to the nearest MSHA office of each rock burst within 24 hours. These mine operators are also required to develop and implement a rock burst control plan within 90 days after a rock burst has been experienced. Plans are required to include: (1) mining and operating procedures designed to reduce the occurrence of rock bursts; (2) monitoring procedures where detection methods are used; and (3) other measures to minimize exposure of persons to areas prone to rock bursts. Plans are also required to be updated as conditions warrant and are to be made available to MSHA inspectors and to miners or their representatives. The standard does not require that all underground metal and nonmetal mines develop these preventative measures, but it does require that all mines with a rock burst history develop and implement a rock burst control plan.

Rock bursts pose a serious threat to the safety of miners in the area affected by the burst. These bursts may reasonably be expected to result in the entrapment of miners, serious physical harm, and death. Recent mining technology utilizes scientific methods of monitoring rock stresses which allows for the prediction of an oncoming burst. These predictions can be used by the mine operator to move miners to safer locations and to identify areas which need relief drilling.

II. Desired Focus of Comments

MSHA is soliciting comments concerning the proposed information collection related to Rock Burst Control Plan, (Pertains to Underground Metal/Nonmetal Mines). MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, Office of Standards, Regulations, and Variances, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This request for collection of information contains provisions for Rock Burst Control Plan, (Pertains to Underground Metal/Nonmetal Mines). MSHA has updated the data with respect to the number of respondents, responses, burden hours, and burden costs supporting this information collection request.

Type of Review: Extension, without change, of a currently approved collection.

Agency: Mine Safety and Health Administration.

OMB Number: 1219-0097.

Affected Public: Business or other for-profit.

Number of Annual Respondents: 1.

Frequency: On occasion.

Number of Annual Responses: 1.

Annual Burden Hours: 12 hours.

Annual Respondent or Recordkeeper Cost: $0.

Comments submitted in response to this notice will be summarized and included in the request for Office of Management and Budget approval of the information collection request; they will also become a matter of public record.

Song-ae Aromie Noe,
Certifying Officer, Mine Safety and Health Administration.

[FR Doc. 2023-15591 Filed 7-21-23; 8:45 am]

BILLING CODE 4510-43-P